DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed extension of the “International Price Program—U.S. Import and Export Product Information.” A copy of the proposed information collection request (ICR) can be obtained by contacting the individual listed below in the ADDRESSES section of this notice.

DATES: Written comments must be submitted to the office listed in the Addresses section of this notice on or before August 10, 2009.

ADDRESSES: Send comments to Nora Kincaid, BLS Clearance Officer, Division of Management Systems, Bureau of Labor Statistics, Room 4080, 2 Massachusetts Avenue, NE., Washington, DC 20212. Written comments also may be transmitted by fax to 202-691-5111 (this is not a toll free number).

FOR FURTHER INFORMATION CONTACT: Nora Kincaid, BLS Clearance Officer, 202-691-7628 (this is not a toll free number). (See ADDRESSES section.)

SUPPLEMENTARY INFORMATION:

I. Background

The U.S. Import and Export Price Indexes, produced by the Bureau of Labor Statistics' International Price Program (IPP), measure price change over time for all categories of imported and exported products, as well as many services. The IPP has produced the U.S. Import Price Indexes continuously since 1973 and the U.S. Export Price Indexes continuously since 1971. The Office of Management and Budget has listed the Import and Export Price Indexes as a Principal Federal Economic Indicator since 1982. The indexes are widely used in both the public and private sectors. The primary public sector use is the deflation of the U.S. Trade Statistics and the Gross Domestic Product; the indexes also are used in formulating U.S. trade policy and in trade negotiations with other countries. In the private sector, uses of the Import Price Indexes include market analysis, inflation forecasting, contract escalation, and replacement cost accounting.

The IPP indexes are closely followed statistics, and are viewed as a sensitive indicator of the economic environment. The U.S. Department of Commerce uses the monthly statistics to produce monthly and quarterly estimates of inflation-adjusted trade flows. Without continuation of data collection, it would be extremely difficult to construct accurate estimates of the U.S. Gross Domestic Product. In addition, Federal policymakers in the Department of Treasury, the Council of Economic Advisers, and the Federal Reserve Board utilize these statistics on a regular basis to improve these agencies' formulation and evaluation of monetary and fiscal policy and evaluation of the general business environment.

II. Current Action

Office of Management and Budget clearance is being sought for the U.S. Import and Export Price Indexes. The IPP continues to modernize data collection and processing to permit more timely release of its indexes, and to reduce reporter burden. Recently, the IPP implemented changes to its web repricing application to reduce burden on IPP reporters providing prices via the internet. Rather than requiring the respondent to type in the account number on the logon screen, the system now displays this information automatically when the respondent accesses the web repricing application by clicking the link in the `time to reprice' e-mail. Also, the application now allows respondents to provide general comments which apply to all items (rather than directing them to retype the comment for all applicable items) and all e-mails sent to reporters using web repricing can now include a cc to one additional company contact. In addition, IPP completed a study aimed at reducing Out of Scope rates, which upon implementation of the various proposals will further reduce respondent burden.

The IPP has also expanded the use of its Web application, introduced in 2003 to allow respondents to update their data online. Through April 2009, 65 percent of IPP respondents were providing prices via the Web application or had agreed to start using this repricing method. Field Economists currently offer Web repricing to all new respondents and at initiation, it is the preferred method of collection offered to companies.

The collection of IPP data was previously collected under OMB Number 1220-0025 for Export Information and 1220-0026 for Import Information. Upon approval of this package information for both Export and Import information will be collected under OMB Number 1220-0025 and OMB Number 1220-0026 will be discontinued.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Extension without change of a currently approved collection.

Agency: Bureau of Labor Statistics.

Title: International Price Program (IPP) U.S. Import and Export Price Indexes.

OMB Number: 1220-0025.

Affected Public: Private Sector, Business or other for-profits.

Form | Total respondents | Frequency | Total responses | Average time per response (hours) | Estimated total burden hours
Form 3008 |  | Annually
Imports | 2000 |  | 2000 | 1.0 | 2000
Exports | 1400 |  | 1400 | 1.0 | 1400
Total | 3400 |  | 3400 |  | 3400
Form 3007D |  | Monthly
Imports | 3500 | ¹ 6.8 | 23800 | ² .7301 | 16734
Exports | 2400 | ¹ 6.8 | 16320 | ³ .6441 | 10512
Total | 5900 |  | 40120 |  | 27246
Totals |  |  | 43520 |  | 30646
¹ During initiation, the respondent determines how many months he/she will need to supply data in a given year based upon how often the company changes its pricing information. The average company is requested to supply information 6.8 months out of every year.
² Time to reprice is based upon 9 minutes of response time per item × 4.687 items = 42.183 minutes/60 = .7031 hours.
³ Time to reprice is based upon 9 minutes of response time per item × 4.294 items = 38.646 minutes/60 = .6441 hours.

Total Burden Cost (capital/startup): $0.

Total Burden Cost (operating/maintenance): $0.

Comments submitted in response to this notice will be summarized and/or included in the request for Office of Management and Budget approval of the information collection request; they also will become a matter of public record.

Signed at Washington, DC, this 5th day of June 2009.
Kimberley D. Hill,
Acting Chief, Division of Management Systems, Bureau of Labor Statistics.

[FR Doc. E9-13720 Filed 6-10-09; 8:45 am]

BILLING CODE 4510-24-P